DEPARTMENT OF HEALTH AND HUMAN SERVICES

Centers for Disease Control and Prevention

[60 Day-10-10BR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation and Development of Hearing Loss Interventions—New—National Institute for Occupational Safety and Health (NIOSH), Centers for Disease Control and Prevention (CDC).

Background and Brief Description

NIOSH, under Public Law 91-596, Sections 20 and 22 (Section 20-22, Occupational Safety and Health Act of 1970) has the responsibility to conduct research relating to innovative methods, techniques, and approaches dealing with occupational safety and health problems.

This research relates to reducing the incidence of noise induced hearing loss in the coal mining industry through improved development and dissemination of hearing loss prevention products. The overall objective of this project is to improve the effectiveness of hearing loss prevention research products through development, refinement, promotion, and long term evaluation. Research products developed in previous projects and new products developed in current projects will be evaluated and promoted for industry-wide adoption and impact.

Noise-induced hearing loss (NIHL) is the most common occupational illness in the United States today, with 30 million workers exposed to excessive noise levels. Mining has the highest prevalence of hazardous noise exposure of any major industry sector (Tak, Davis, & Calvert, 2009) and is second only to the railroad industry in prevalence of workers reporting hearing difficulty (Tak & Calvert, 2008). The Hearing Loss Prevention Branch at NIOSH Office of Mine Safety and Health Research (OMSHR) has developed multiple hearing loss prevention research products with the intent of controlling noise exposure and reducing the occurrence of NIHL in mining. However, many of the products are not widely used in industry. The current project has several goals related to determining the effectiveness of our products and developing additional products; however it is also necessary to determine why the products are not receiving greater field utilization so that we can amend the procedure for dissemination and to assure that future products are transferred to industry in a more efficient manner.

The outcomes of this project will include a culmination of various physical measures such as noise dosimetry, noise measures, and audiometry. These are common industry hygiene methods that typically do not require special approval. However, it will also be necessary to conduct semi-structured interviews and questionnaire-based assessments with various mine personnel who are using NIOSH-developed noise controls to gain an understanding of the barriers to acceptance. Employees will be asked about their motivation to implement noise controls, their attitude towards the specific control being assessed, their attitude toward safety, and the methods they use to find and implement health and safety information. These interviews will take place with health and safety managers, mine foremen, maintenance supervisors, production coordinators and operators of equipment with installed noise controls. The proposed time schedule for conducting these assessments is before installation of a control and on a predetermined schedule for the duration of the life of the control. For example, one noise control may have an expected performance life of 6 months. In that case the interviews will occur before installation, 2 weeks, 6 weeks, 14 weeks, and 24 weeks post installation.

Although we plan to follow this general time table, due to the nature of the mining industry, slight deviation may occur. No noise control will require greater than 5 interviews per respondent. The goal is to achieve 6 mines and 6 individuals per mine per noise control.

Estimated Annualized Burden Hours
Type of respondent | Form name | Number of respondents | Number of responses per respondent | Average burden per response (in hours) | Total burden (in hours)
Managers Foreman Supervisors Coordinators Operators | Assessment of the Urethane-Coated Chain for Continuous Mining Machines | 36 | 5 | 20/60 | 60
Managers Foreman Supervisors Coordinators Operators | Assessment of the Roof Bolting Machine Noise Control Products | 36 | 5 | 20/60 | 60
Managers Foreman Supervisors Coordinators Operators | Assessment for the Enclosure for Vibrating Screen | 36 | 5 | 20/60 | 60
Total |  | 108 |  |  | 180

Dated: February 22, 2010.
Maryam I. Daneshvar,
Acting Reports Clearance Officer, Centers for Disease Control and Prevention.

[FR Doc. 2010-3999 Filed 2-25-10; 8:45 am]

BILLING CODE 4163-18-P